DEPARTMENT OF COMMERCE

National Institute of Standards and Technology

Agency Information Collection Activities; Submission to the Office of Management and Budget (OMB) for Review and Approval; Comment Request; Events and Efforts Supporting Cybersecurity Career Awareness Week

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 28, 2021, during a 60-day comment period. This notice allows for an additional 30 days for public comments.

Agency: National Institute of Standards and Technology (NIST), Commerce.

Title: Events and Efforts Supporting Cybersecurity Career Awareness Week.

OMB Control Number: 0693-0082.

Form Number(s): None.

Type of Request: Regular, revision of a current information collection.

Number of Respondents: 500.

Average Hours per Response: 10 minutes.

Burden Hours: 83 hours annually.

Needs and Uses: This collection is necessary to support the National Initiative for Cybersecurity Education (NICE) Strategic Plan objective to increase cybersecurity career awareness. The collection of information will allow the NICE Program Office to share with the public a compiled list of events and opportunities to learn about cybersecurity careers. Doing so will provide a resource for potential attendees, extend the reach of programs and efforts, and encourage more individuals and organizations to get involved in Cybersecurity Career Awareness Week.

Affected Public: Business or other for-profit organizations; Not-for-profit institutions; State, Local, or Tribal government; Federal government.

Frequency: On occasion.

Respondent's Obligation: Voluntary.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0693-0082.

Sheleen Dumas,
Department PRA Clearance Officer, Office of the Chief Information Officer, Commerce Department.

[FR Doc. 2021-23278 Filed 10-25-21; 8:45 am]

BILLING CODE 3510-13-P